DEPARTMENT OF JUSTICE

Office of Community Oriented Policing Services FY 2001 Community Policing Discretionary Grants

AGENCY: Office of Community Oriented Policing Services, Department of Justice.

ACTION: Notice of availability.

SUMMARY: The Department of Justice, Office of Community Oriented Policing Services (“COPS”) announces a new grant program, COPS in Schools 2001, designed to combat school violence by helping local law enforcement agencies hire additional community policing officers to work in schools. This program provides an incentive for law enforcement agencies to build working relationships with schools and to use community policing efforts to combat school violence. The COPS in Schools 2001 program will help reduce the local match requirement for local law enforcement agencies seeking to hire additional new officers to be used in or around schools.

DATES: There are two application deadlines for the COPS in Schools 2001 program. Applications are due and must be postmarked no later than June 15, 2001. Priority consideration for FY 2001 funding will be given to applications received postmarked on or before March 30, 2001. Applications received postmarked after March 30, 2001, but postmarked on or before June 15, 2001 will receive secondary consideration for funding in FY 2001. All applications received prior to the June 15, 2001 deadline that are not funded in FY 2001 because of limited funding will be carried over for consideration in FY 2002 (subject to available funding). Applications must be postmarked by this date to be considered for funding. All applicants must apply to the COPS in Schools 2001 program using the CIS Application kit. Previous editions of the application are null and void and will not be accepted.

ADDRESSES: To obtain a copy of an application or for more information, please call the U.S. Department of Justice Response Center at 1-800-421-6770 or (202) 307-1480, or visit the COPS web site at http://www.usdoj.gov/cops/.

FOR FURTHER INFORMATION CONTACT: The U.S. Department of Justice Response Center, (202) 307-1480 or 1-800-421-6770 or your grant advisor. The CIS application and information on the COPS Office are also available on the Internet via the COPS web site at: http://www.usdoj.gov/cops/.

SUPPLEMENTARY INFORMATION:

Overview

The Violent Crime Control and Law Enforcement Act of 1994 (Pub. L. 103-322) authorizes the Department of Justice to make grants to increase deployment of law enforcement officers devoted to community policing on the streets and rural routes in this nation. The COPS in Schools program is specifically designed to combat school violence.

Many communities are discovering that trained, sworn Law enforcement officers assigned to schools make a difference. The presence of these officers provides schools with on-site security and a direct link to local law enforcement agencies.

Community policing officers typically perform a variety of functions within the school including teaching crime prevention and substance-abuse classes, monitoring troubled students, and building respect for law enforcement among students. School Resource Officers combine the functions of law enforcement and education.

The COPS in Schools initiative provides an incentive for law enforcement agencies to build working relationships with schools to use community policing efforts to combat school violence.

The COPS in Schools initiative reduces the local match requirement for law enforcement agencies seeking to hire additional officers in and around schools.

Grants will be awarded to provide for a designated portion of the salary and benefits of each new officer over three years. The maximum grant amount is $125,000 per officer; any remainder is paid with state or local funds. To qualify for funding, officers must be hired on or after the grant award start date. Funding begins when new officers are hired or on the award date (whichever is later). Funds are distributed over the course of the grant.

COPS in Schools funding must be used to hire new, additional School Resource Officers, over and above the number of sworn officers that your agency would fund with state or local funds in the absence of the grant (including other School Resource Officers). Your agency may not reduce its state or locally-funded level of sworn officers (including other School Resource Officers) as a result of applying for or receiving COPS in Schools grant funding.

COPS in Schools funding may also be used to rehire sworn officers previously employed by your agency who have been laid off for financial reasons unrelated to the availability of the COPS in Schools grant. Your agency must obtain prior written approval from the COPS Office, however, if you wish to use COPS in Schools funding to rehire any officer who is laid off after the official award start date of the COPS in Schools grant.

All grant recipients must develop a written plan to retain their COPS-funded officer positions with State or local funding after Federal funding ends. This plan must be submitted at the time of application to be considered for funding. The application must also include a Memorandum of Understanding (MOU) to document the roles and responsibilities of the collaborative effort between law enforcement and education. The MOU must be signed by the law enforcement executive and the appropriate school official and must be submitted at the time of application to be considered for funding. The application must also include a Narrative Addendum to document that the School Resource Officers will be assigned to work in and around primary or secondary schools, and provide a descriptive narrative of the use of the School Resource Officers.

In addition to these general program requirements, agencies seeking funding under this program will be asked to provide supporting documentation in the following areas: problem identification and justification, community policing strategies to be used by the officers, quality and level of commitment to the effort, and the link to community policing.

All COPS in Schools awards will contain an “Additional Grant Condition” that must be signed and returned to the COPS Office. This condition requires the funded officer(s) and the school administrator designated as the educational partner under the CIS grant to attend a COPS in Schools Training. Costs for training, per diem, travel, and lodging for attendance of required participants will be reimbursed by the COPS Office up to a maximum of $1100.

An award under the COPS in Schools grant program will not affect the eligibility of an agency to receive awards under any other COPS program.

The Catalog of Federal Domestic Assistance (CFDA) reference for this program is 16.710.

Dated: February 8, 2001.
Ralph Justus,
Acting Director.

[FR Doc. 01-5057 Filed 3-1-01; 8:45 am]

BILLING CODE 4410-AT-M